DEPARTMENT OF COMMERCE

International Trade Administration

[A-557-821]

Utility Scale Wind Towers From Malaysia: Amended Final Results of Antidumping Duty Administrative Review; 2021-2022

AGENCY: Enforcement and Compliance, International Trade Administration, Department of Commerce.

SUMMARY: The U.S. Department of Commerce (Commerce) is amending the final results of the administrative review of the antidumping duty (AD) order on utility scale wind towers (wind towers) from Malaysia to correct a ministerial error. The period of review (POR) is October 13, 2021, through November 30, 2022.

DATES: Applicable August 13, 2024.

FOR FURTHER INFORMATION CONTACT: Rachel Jennings, AD/CVD Operations, Office V, Enforcement and Compliance, International Trade Administration, U.S. Department of Commerce, 1401 Constitution Avenue NW, Washington, DC 20230; telephone: (202) 482-1110.

SUPPLEMENTARY INFORMATION:

Background

On July 2, 2024, Commerce published in the Federal Register the final results of the 2021-2022 administrative review of the AD order on wind towers from Malaysia.¹ On July 3, 2024, Commerce disclosed its calculations to interested parties.² On July 8, 2024, CS Wind Corporation and CS Wind Malaysia Sdn Bhd (collectively, CS Wind), a mandatory respondent in this review, timely alleged that Commerce made a ministerial error in the Final Results. Specifically, CS Wind alleged that Commerce failed to convert the company's shutdown costs from Malaysian ringgit to South Korean won when calculating the revised cost of goods sold denominator used in the calculation of CS Wind's revised financial expense rate (i.e., INTEX rate).³ No other party submitted a ministerial error allegation or rebutted CS Wind's ministerial error allegation.

¹ See Utility Scale Wind Towers from Malaysia: Final Results of Antidumping Duty Administrative Review; 2021-2022, 89 FR 56735 (July 10, 2024) (Final Results).

² See Memorandum, “Cost of Production and Constructed Value Calculation Adjustments for the Final Results—CS Wind Malaysia,” dated July 2, 2024.

³ See CS Wind's Letter, “Ministerial Error Allegation,” dated July 8, 2024 (Ministerial Error Allegation)

Legal Framework

Pursuant to section 751(h) of the Act, Commerce has established procedures for the correction of a ministerial error in the final results of an administrative review after the final results are issued. A “ministerial error” is defined as including “errors in addition, subtraction, or other arithmetic function, clerical errors resulting from inaccurate copying, duplication, or the like, and any other type of unintentional error which {Commerce} considers ministerial.” ⁴ An allegation concerning a methodological decision by Commerce is not considered ministerial in nature because it does not satisfy the regulatory definition of that term.⁵

⁴ See section 751(h) of the Act; see also 19 CFR 351.224(f).

⁵ See, e.g., Alloy Piping Prods. v. United States, 20 1 F. Supp. 2d 1267, 1285 (CIT 2002) (“The error in question must be demonstrated to be a clerical error, not a methodological error, an error in judgment. or a substantive error”); see also section 751(h) of the Act, and 19 CFR 351.224(f).

Commerce's regulations stipulate that Commerce will disclose calculations performed, if any, in connection with the final results of an administrative review to parties in the proceeding, and that those parties may submit comments concerning any ministerial error in such calculations within five days of disclosure.⁶ Comments submitted by parties “must explain the alleged ministerial error by reference to applicable evidence in the official record, and must present what, in the party's view, is the appropriate correction.” ⁷ Pursuant to 19 CFR 351.224(e),⁸ Commerce will analyze any comments received and, if appropriate, correct any ministerial error by amending the final results.

⁶ See 19 CFR 351.224(b) and (c)(l).

⁷ See 19 CFR 351.224(d).

⁸ See section 751(h) of the Act (“{Commerce} shall establish procedures for the correction of ministerial errors . . . within a reasonable time after {} determinations are issued”).

Ministerial Error

In the Final Results, Commerce made an inadvertent error within the meaning of section 751(h) of the Act and 19 CFR 351.224(f) by not converting CS Wind's shutdown costs from Malaysian ringgit to Korean won in calculating the revised cost of goods sold denominator used in the calculation of CS Wind's consolidated financial expense rate (i.e., CS Wind's INTEX rate). Correcting for this error results in a change to CS Wind's weighted-average dumping margin from 18.02 percent calculated in the Final Results ⁹ to 17.97 percent.¹⁰

⁹ See Final Results, 89 FR 56735.

¹⁰ See Memorandum, “Analysis Memorandum for the Amended Final Results of Review,” dated concurrently with, memorandum; see also Memorandum, “Cost of Production and Constructed Value Calculation Adjustments for the Amended Final Results—CS Wind Malaysia,” dated concurrently with this memorandum.

For a complete description and analysis of the specific ministerial error, and CS Wind's ministerial error allegation, see the accompanying Ministerial Error Allegation Memorandum.¹¹ The Ministerial Error Allegation Memorandum is a public document and is on file electronically via Enforcement and Compliance's Antidumping and Countervailing Duty Centralized Electronic Service System (ACCESS). ACCESS is available to registered users at https://access.trade.gov.

¹¹ See Memorandum, “Administrative Review of the Antidumping Duty Order on Utility Scale Wind Towers from Malaysia, 2021-2022: Allegation of Ministerial Error in the Final Results,” dated concurrently with this notice (Ministerial Error Allegation Memorandum).

Amended Final Results of Review

As a result of correcting the ministerial error described above, we determine that the following estimated weighted-average dumping margin exists for the period October 13, 2021, through November 30, 2022:

Exporter or producer | Weighted-average dumping margin (percent)
CS Wind Corporation/CS Wind Malaysia Sdn Bhd | 17.97

Disclosure

Commerce intends to disclose the calculations performed in connection with these amended final results of review to interested parties within five days after public announcement of the amended final results or, if there is no public announcement, within five days of the date of publication of the notice of amended final results in the Federal Register, in accordance with 19 CFR 351.224(b).

Assessment Rates

Pursuant to section 751(a)(2)(C) of the Act and 19 CFR 351.212(b)(1), Commerce has determined, and U.S. Customs and Border Protection (CBP) shall assess, antidumping duties on all appropriate entries of subject merchandise in accordance with these amended final results of review.

Pursuant to 19 CFR 351.212(b)(1), for CS Wind, we calculated importer-specific ad valorem assessment rates based on the ratio of the total amount of dumping calculated for the examined sales for each importer to the total entered value of the sales for each importer. Where an importer-specific assessment rate is zero or de minimis, within the meaning of 19 CFR 351.106(c)(1), Commerce will instruct CBP to liquidate the appropriate entries without regard to antidumping duties.

For entries of subject merchandise during the POR produced by CS Wind for which it did not know that its merchandise was destined for the United States, we will instruct CBP to liquidate such entries at the all-others rate established in the less-than-fair-value (LTFV) investigation of 0.00 percent ad valorem,¹² if there is no rate for the intermediate company(ies) involved in the transaction.

¹² See Utility Scale Wind Towers from India and Malaysia: Antidumping Duty Orders, 86 FR 69014 (December 6, 2021).

Commerce intends to issue assessment instructions to CBP no earlier than 35 days after the date of publication of the amended final results of this review in the Federal Register. If a timely summons is filed at the U.S. Court of International Trade, the assessment instructions will direct CBP not to liquidate relevant entries until the time for parties to file a request for a statutory injunction has expired (i.e., within 90 days of publication).

Cash Deposit Requirements

The following amended cash deposit requirements will be effective retroactively upon publication of the amended final results of this administrative review in the Federal Register, for all shipments of the subject merchandise entered, or withdrawn from warehouse, for consumption on or after July 10, 2024, the publication date of the Final Results, as provided by section 751(a)(2)(C) of the Act: (1) the amended cash deposit rate for subject merchandise exported by CS Wind will be equal to the weighted-average dumping margin established in these amended final results of this review; (2) for merchandise exported by companies not covered in this review but covered in a prior segment of this proceeding, the cash deposit rate will continue to be the company-specific rate published in the completed segment for the most recent period; (3) if the exporter is not a firm covered in this review, a prior review, or the original LTFV investigation, but the producer is, then the cash deposit rate will be the rate established in the completed segment for the most recent period for the producer of the merchandise; and (4) the cash deposit rate for all other producers or exporters will continue to be 0.00 percent, the all-others rate established in the LTFV investigation.¹³ These cash deposit requirements, when imposed, shall remain in effect until further notice.

¹³ Id.

Notification to Importers

This notice also serves as a final reminder to importers of their responsibility under 19 CFR 351.402(f) to file a certificate regarding the reimbursement of antidumping duties prior to liquidation of the relevant entries during this review period. Failure to comply with this requirement could result in Commerce's presumption that reimbursement of antidumping duties occurred and the subsequent assessment of doubled antidumping duties.

Administrative Protective Order

This notice also serves as the only reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a violation which is subject to sanction.

Notification to Interested Parties

We are issuing and publishing these results in accordance with sections 751(h) and 777(i)(1) of the Act, and 19 CFR 351.224(e).

Dated: August 7, 2024.
Scot Fullerton,
Acting Deputy Assistant Secretary for Antidumping and Countervailing Duty Operations.

[FR Doc. 2024-18010 Filed 8-12-24; 8:45 am]

BILLING CODE 3510-DS-P